DEPARTMENT OF TRANSPORTATION

Surface Transportation Board

[STB Finance Docket No. 34069 (Sub-No. 1)]

Central Montana Rail, Inc.—Trackage Rights Exemption—The Burlington Northern and Santa Fe Railway Company

AGENCY: Surface Transportation Board.

ACTION: Notice of exemption.

SUMMARY: The Board, under 49 U.S.C. 10502, exempts the trackage rights described in STB Finance Docket No. 34069¹ to permit the trackage rights to expire, as they relate to the operations in the vicinity of Moccasin, MT, on January 1, 2003.

¹ On October 29, 2001, Central Montana Rail, Inc. (CMR) filed a notice of exemption under the Board's class exemption procedures at 49 CFR 1180.2(d)(7). The notice covered the trackage rights agreement (agreement) by which The Burlington Northern and Santa Fe Railway Company (BNSF) granted temporary overhead trackage rights to CMR over BNSF's line between milepost 134.4 and milepost 134.57, in the vicinity of Moccasin, MT, a distance of 0.17 miles. See Central Montana Rail, Inc.—Trackage Rights Exemption—The Burlington Northern and Santa Fe Railway Company, STB Finance Docket No. 34069 (STB served Nov. 16, 2001). The agreement is scheduled to expire on January 1, 2003. The trackage rights operations under the exemption were scheduled to be consummated on November 5, 2001.

DATES: This exemption is effective on January 13, 2002. Petitions for stay must be filed by December 26, 2001. Petitions to reopen must be filed by January 3, 2002.

ADDRESSES: An original and 10 copies of all pleadings referring to STB Finance Docket No. 34069 (Sub-No. 1) must be filed with the Surface Transportation Board, Office of the Secretary, Case Control Unit, 1925 K Street, NW., Washington, DC 20423-0001. In addition, a copy of all pleadings must be served on petitioners' representatives: (1) Tammy Wyatt-Shaw, Esq., Phillips & Bohyer, P.C., PO Box 8569, Missoula, MT 59807; and (2) Yolanda Grimes Brown, Esq., 2500 Lou Menk Drive, PO Box 961039, Fort Worth, TX 76161-0039.

FOR FURTHER INFORMATION CONTACT: Joseph H. Dettmar, (202) 565-1600. [TDD for the hearing impaired: 1 (800) 877-8339.]

SUPPLEMENTARY INFORMATION: Additional information is contained in the Board's decision. To purchase a copy of the full decision, write to, call, or pick up in person from: Dā 2 Dā Legal, Suite 405, 1925 K Street, NW., Washington, DC 20006. Telephone: (202) 293-7776. [Assistance for the hearing impaired is available through TDD services 1 (800) 877-8339.]

Board decisions and notices are available on our Web site at www.stb.dot.gov.

Decided: December 7, 2001.

By the Board, Chairman Morgan, Vice Chairman Clyburn, and Commissioner Burkes.

Vernon A. Williams,
Secretary.

[FR Doc. 01-30935 Filed 12-13-01; 8:45 am]

BILLING CODE 4915-00-P